DEPARTMENT OF HEALTH AND HUMAN SERVICES

National Institutes of Health

Center for Scientific Review; Amended Notice of Meeting

Notice is hereby given of a change in the meeting of the Center for Scientific Review Special Emphasis Panel, July 17, 2003, 8:30 a.m. to July 18, 2003, 5 p.m., The Fairmont Washington, DC., 2401 M Street, NW., Washington, DC, 20037 which was published Federal Register on July 17, 2003, 68 FR 40273-40276.

The meeting will be three days July 16-18, from 7 p.m. to 5 p.m. The location remains the same. The meeting is closed to the public

Dated: July 9, 2003.
Anna Snouffer,
Acting Director, Office of Federal Advisory Committee Policy.

[FR Doc. 03-17863 Filed 7-14-03; 8:45 am]

BILLING CODE 4140-01-M